DEPARTMENT OF HOUSING AND URBAN DEVELOPMENT

[Docket No. FR-4984-C-03]

Public Housing Graduation Incentive Bonus Program; Correction

AGENCY: Office of the Assistant Secretary for Public and Indian Housing, HUD.

ACTION: Notice of funding availability; correction.

SUMMARY: On June 2, 2005, HUD published its notice of funding availability (NOFA) for the Public Housing Graduation Incentive Bonus program. The NOFA includes a provision that disqualifies applicants that request funding in excess of the applicable maximum award. The Department has determined that this provision was erroneously included in this NOFA. This notice corrects this error by removing the provision from the NOFA. Except for the changes discussed here, and the other technical change published on July 29, 2005, the original NOFA published on June 2, 2005, is unchanged.

FOR FURTHER INFORMATION CONTACT: For questions and technical assistance, applicants may call the Public and Indian Housing Information and Resource Center at 800-955-2232. Hearing- or speech-impaired persons may call the Federal Relay Service at 800-877-8339. (These are toll-free numbers.)

SUPPLEMENTARY INFORMATION: On June 2, 2005 (70 FR 32470), HUD published a NOFA for the Public Housing Graduation Incentive Bonus program. The purpose of the program is to invite Public Housing Authorities (PHAs) to apply for a graduation incentive bonus. The graduation incentive bonus is awarded to PHAs that can show their public housing residents are moving away from long-term dependence on housing assistance. This showing is evidenced by the proportion of households that leaves public housing and end their participation in assisted housing programs during calendar year 2004 plus the average length of stay among public housing residents.

The NOFA announced the availability of up to $10 million under the Graduation Incentive Bonus program in fiscal year 2005. Eligible applicants are PHAs that operated a public housing program during calendar year 2004, have reported Public and Indian Housing Information Center (PIC) Family Household form HUD-50058 data for residents who ended their residency in public housing during calendar year 2004, have a minimum of 100 dwelling units in management status as reported in PIC as approved by the field office as of January 15, 2005, have a minimum of twenty-five Family Household form HUD-50058 records reported in PIC and have met the minimum threshold criteria based upon its size category.

Following publication of the June 2, 2005, NOFA, HUD determined that paragraph III.C.2. (Excess Funding Requests) was erroneously included in the June 2, 2005, NOFA. That paragraph provides that “Applicants that request funding in excess of the maximum award that they are eligible to receive will not receive funding consideration.” This provision, adopted in error in the June 2, 2005, NOFA, is inappropriate as a basis for awarding the funds reserved in the NOFA. As discussed in the June 2, 2005, NOFA, the funding is predetermined and will be awarded based on PHA size and certain identified historical data. Consequently, a PHA cannot receive an award in excess of the amount predetermined for its size. The formulaic nature of the allocation process makes it irrelevant that a PHA may inadvertently or otherwise apply for an amount larger than HUD decided to award. HUD will not exceed the respective award limits for the different sizes of PHAs.

Accordingly, in the Public Housing Graduation Incentive Bonus Program, HUD will remove paragraph III.C.2. entitled Excess Funding Requests.

Dated: September 15, 2005.
Paula O. Blunt,
General Deputy Assistant Secretary for Public and Indian Housing.

[FR Doc. 05-18986 Filed 9-22-05; 8:45 am]

BILLING CODE 4210-33-P